DEPARTMENT OF ENERGY

Federal Energy Regulatory Commission

Combined Notice of Filings #1

Take notice that the Commission received the following Complaints and Compliance filings in EL Dockets:

Docket Numbers: EL24-50-000.

Applicants: Salsa Solar Energy, LLC and Towner Wind Energy III LLC v. Public Service Company of Colorado.

Description: Complaint of Salsa Solar Energy, LLC and Towner Wind Energy III LLC v. Public Service Company of Colorado.

Filed Date: 12/22/23.

Accession Number: 20231222-5335.

Comment Date: 5 p.m. ET 1/11/24.

Take notice that the Commission received the following electric rate filings:

Docket Numbers: ER24-172-001.

Applicants: FirstEnergy Pennsylvania Electric Company.

Description: Tariff Amendment: 2023.12.22—Deficiency Letter Response to be effective 12/31/9998.

Filed Date: 12/26/23.

Accession Number: 20231226-5000.

Comment Date: 5 p.m. ET 1/16/24.

Docket Numbers: ER24-262-000.

Applicants: Mustang Hills, LLC.

Description: Supplement to October 31, 2023 Mustang Hills, LLC tariff filing.

Filed Date: 12/26/23.

Accession Number: 20231226-5130.

Comment Date: 5 p.m. ET 1/16/24.

Docket Numbers: ER24-753-000.

Applicants: New York State Reliability Council, L.L.C.

Description: Informational Filing of the Revised Installed Capacity Requirement of the New York Control Area by the New York State Reliability Council, L.L.C.

Filed Date: 12/20/23.

Accession Number: 20231220-0001.

Comment Date: 5 p.m. ET 1/10/24.

Docket Numbers: ER24-756-000.

Applicants: Avista Corporation.

Description: Compliance filing: Avista Corp FERC Order 2023 Compliance Filing to be effective 3/15/2024.

Filed Date: 12/22/23.

Accession Number: 20231222-5289.

Comment Date: 5 p.m. ET 1/12/24.

Docket Numbers: ER24-757-000.

Applicants: Viridon Midcontinent LLC.

Description: Baseline eTariff Filing: Formula Rate Baseline to be effective 2/26/2024.

Filed Date: 12/26/23.

Accession Number: 20231226-5089.

Comment Date: 5 p.m. ET 1/16/24.

Docket Numbers: ER24-758-000.

Applicants: Puget Sound Energy, Inc.

Description: § 205(d) Rate Filing: Amcor NITSA, NOA and IA to be effective 1/1/2024.

Filed Date: 12/26/23.

Accession Number: 20231226-5123.

Comment Date: 5 p.m. ET 1/16/24.

Take notice that the Commission received the following foreign utility company status filings:

Docket Numbers: FC24-2-000.

Applicants: I Squared Capital.

Description: I Squared Capital submits Notice of Self-Certification of Foreign Utility Company Status.

Filed Date: 12/21/23.

Accession Number: 20231221-5307.

Comment Date: 5 p.m. ET 1/11/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 26, 2023.
Debbie-Anne A. Reese,
Deputy Secretary.

[FR Doc. 2023-28864 Filed 1-2-24; 8:45 am]

BILLING CODE 6717-01-P